DEPARTMENT OF TRANSPORTATION

Federal Aviation Administration

Policy Statement; Installation of Electronic Engine Control for Reciprocating Engine; PS-ACE100-2004-10024

AGENCY: Federal Aviation Administration (FAA), DOT.

ACTION: Notice of issuance of policy statement.

SUMMARY: This notice announces the issuance of policy statement PS-ACE100-2004-10024 on the installation of electronic engine control for reciprocating engines. This policy statement sets forth guidance on appropriate certification requirements for installation of an Electronic Engine Control (EEC) into a small airplane with a reciprocating engine. It includes guidance related to methods of compliance as well as potential Equivalent Level of Safety findings (ELOS) and special conditions.

DATES: Policy statement PS-ACE100-2004-10024 was issued by the Acting Manager of the Small Airplane Directorate, ACE-100, on November 18, 2004.

How To Obtain Copies: The policy statement will be available on the Internet at http://www.airweb.faa.gov/policy. You may obtain a paper copy of PS-ACE100-2004-10024 either by writing to the Small Airplane Directorate, Standards Office, ACE-111, 901 Locust, Kansas City, MO 64106; by calling the office at telephone 816-329-4135; or by faxing your request to Mr. Pete Rouse at 816-329-4090.

FOR FURTHER INFORMATION CONTACT: Mr. Pete Rouse, Federal Aviation Administration, Small Airplane Directorate, Regulations & Policy, ACE-111, 901 Locust Street, Room 301, Kansas City, Missouri 64106; telephone: (816) 329-4135; fax: 816-329-4090; e-mail: peter.rouse@faa.gov.

SUPPLEMENTARY INFORMATION:

Background

We announced the availability of the policy statement on July 23, 2004 (69 FR 44075). Several comments were received, and the policy has been revised where necessary to respond to those comments.

Issued in Kansas City, Missouri on November 18, 2004.
James E. Jackson,
Acting Manager, Small Airplane Directorate, Aircraft Certification Service.

[FR Doc. 04-26523 Filed 12-1-04; 8:45 am]

BILLING CODE 4910-13-P